DEPARTMENT OF COMMERCE

National Oceanic and Atmospheric Administration

[RTID 0648-XB340]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one day in-person and virtual meeting (hybrid) of its Data Collection Advisory Panel (AP).

DATES: The meeting will take place Tuesday, September 14, 2021, from 9 a.m. to 5 p.m., EDT.

ADDRESSES: The in-person meeting will take place at the Gulf Council office. If you prefer not to travel at this time, you may attend via webinar. Registration information will be available on the Council's website by visiting www.gulfcouncil.org and clicking on the AP meeting on the calendar.

Council address: Gulf of Mexico Fishery Management Council, 4107 W. Spruce Street, Suite 200, Tampa, FL 33607; telephone: (813) 348-1630.

FOR FURTHER INFORMATION CONTACT: Dr. Lisa Hollensead, Fishery Biologist, Gulf of Mexico Fishery Management Council; email: lisa.hollensead@gulfcouncil.org; telephone: (813) 348-1630.

SUPPLEMENTARY INFORMATION:

Tuesday, September 14, 2021; 9 a.m.-5 p.m., EDT

The meeting will begin with Introductions and Adoption of Agenda, Approval of Meeting Summary from the September 29, 2016 meeting, Election of Chair and Vice Chair and review of Scope of Work. The AP will review and discuss the Southeast For-hire Electronic Reporting (SEFHIER) Program; receive presentations on Update on SEFHIER progress and Draft Options for Electronic Reporting due to Equipment Failure, Background on Draft Options Document and hold AP Discussion.

The AP will also review and discuss Modifications to the Commercial Electronic Reporting Program and receive a presentation on updates, and hold a discussion. The AP will receive public comment; and, discuss any Other Business items.

—Meeting Adjourns

The meeting will be also be broadcast via webinar. You may register for the webinar by visiting www.gulfcouncil.org and clicking on the AP meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: August 17, 2021.
Tracey L. Thompson,
Acting Deputy Director, Office of Sustainable Fisheries, National Marine Fisheries Service.

[FR Doc. 2021-17905 Filed 8-19-21; 8:45 am]

BILLING CODE 3510-22-P